DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: January 19, 2017 10:00 a.m.

PLACE: Room 2C, 888 First Street NE., Washington, DC 20426.

STATUS: Open.

MATTERS TO BE CONSIDERED:

Agenda

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://ferc.capitolconnection.org/ sing the eLibrary link, or may be examined in the Commission's Public Reference Room.

1034th—Meeting; Regular Meeting
[January 19, 2017, 10 a.m.]
Item No. | Docket No. | Company
ADMINISTRATIVE
A-1 | AD16-7-000 | Customer Matters, Reliability, Security and Market Operations.
A-2 | AD16-1-000 | Agency Administrative Matters.
ELECTRIC
E-1 | RM17-2-000 | Uplift Cost Allocation and Transparency in Markets Operated by Regional Transmission Organizations and Independent System Operators.
E-2 E-3 | PL17-2-000 OMITTED | Utilization of Electric Storage Resources for Multiple Services When Receiving Cost-Based Rate Recovery.
E-4 | OMITTED
E-5 | OMITTED
E-6 | OMITTED
E-7 | ER09-1256-002, ER12-2708-003 | Potomac-Appalachian Transmission Highline, LLC PJM Interconnection, L.L.C.
E-8 | ER13-2483-001 | Old Dominion Electric Cooperative.
E-9 | ER16-1483-002, ER16-1483-0004 | California Independent System Operator Corporation.
E-10 | EL14-37-000 | PJM Interconnection, L.L.C.
E-11 | ER13-1654-001, ER13-1654-002 | PJM Interconnection, L.L.C.
E-12 | RM16-7-000 | Disturbance Control Standard—Contingency Reserve for Recovery from a Balancing Contingency Event Reliability Standard.
E-13 | RM16-20-000 | Remedial Action Schemes Reliability Standard.
E-14 | RM15-11-001 | Reliability Standard for Transmission System Planned Performance for Geomagnetic Disturbance Events.
E-15 | ER16-1807-000, ER10-1459-008 | FirstEnergy Solutions Corp.
| ER10-1469-004 | The Cleveland Electric Illuminating Company.
| ER10-1467-004 | Ohio Edison Company.
| ER10-1468-004 | The Toledo Edison Company.
| ER13-785-003 | FirstEnergy Generation, LLC.
| ER13-713-003 | FirstEnergy Nuclear Generation, LLC.
| ER10-1453-004 | FirstEnergy Generation Mansfield Unit 1 Corp.
E-16 | ER16-835-000 | New York Independent System Operator, Inc.
E-17 | EL16-117-001 | Vote Solar Initiative and
| Montana Environmental Information Center v. Montana Public Service Commission.
E-18 | ER16-1904-001 | ISO New England Inc.
E-19 | EL13-88-001 | Northern Indiana Public Service Company v. Midcontinent Independent System Operator, Inc. and PJM Interconnection, L.L.C.
| ER16-1967-000 | PJM Interconnection, L.L.C.
| ER16-1969-000 | Midcontinent Independent System Operator, Inc.
| ER16-1969-001 (Not Consolidated)
E-20 | EL16-120-000 | New England Power Generators Association, Inc. v. ISO New England Inc.
E-21 | ER17-408-000 | California Independent System Operator Corporation.
E-22 | ER17-411-000 | California Independent System Operator Corporation.
GAS
G-1 | RP17-303-000 | Natural Gas Pipeline Company of America LLC.
G-2 | RP17-302-000 | Wyoming Interstate Company, L.L.C.
HYDRO
H-1 | P-1971-079 | Idaho Power Company.
H-2 | P-1864-164 | Upper Peninsula Power Company.
H-3 | P-2114-277 | Public Utility District No. 2 of Grant County, Washington.
H-4 | P-4254-011 | Brentwood Dam Ventures, LLC.
CERTIFICATES
C-1 | OMITTED
C-2 | OMITTED
C-3 | CP15-514-000 CP15-539-000 | Columbia Gas Transmission, LLC. Columbia Gulf Transmission, LLC.

Issued: January 12, 2017.
Kimberly D. Bose,
Secretary.

A free webcast of this event is available through http://ferc.capitolconnection.org/. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2017-01138 Filed 1-13-17; 11:15 am]

BILLING CODE 6717-01-P